DEPARTMENT OF HEALTH AND HUMAN SERVICES

Administration for Children and Families

Proposed Information Collection Activity; Comment Request

Proposed Projects:

Title: Trafficking Victim Assistance Program Data.

OMB No.: 0970—NEW.

Description: The Trafficking Victims Protection Act of 2000 (TVPA), as amended, authorizes the Secretary of Health and Human Services to expand benefits and services to foreign nationals in the United States who are victims of severe forms of trafficking in persons. Such benefits and services may include services to assist potential victims of trafficking. (Section 107(b)(1)(B) of the TVPA, 22 U.S.C. 7105(b)(1)(B)).

ORR intends award cooperative agreements in fiscal year 2015 to approximately three organizations that will ensure national coverage. The awarded organization must provide comprehensive case management and referrals to qualified persons, either directly through its own organization or by partnering with other organizations through contracts or both.

Persons qualified for services under this grant are victims of a severe form of trafficking in persons who have received certification from ORR; potential victims of a severe form of trafficking who are actively seeking to achieve ORR certification; and minor dependent children of foreign victims of severe forms of trafficking in persons or potential victims of trafficking.

To help measure each grant project's performance and the success of the program in assisting participants, and to assist grantees to assess and improve their projects over the course of the project period, ORR proposes to collect information from TVAP grant project participants through the grantees on a monthly, quarterly, or annual basis, including participant demographics (age, sex, and country of origin), type of trafficking experienced (sex, labor, or both), and immigration status during participation.

This information will help ORR assess the project's performance in assisting victims of trafficking and will better enable TVAP grantees to meet the program objectives and to monitor and evaluate the quality of case management services provided by any subcontractors. ORR will also include aggregate information in reports to Congress to help inform strategies and policies to assist victims of human trafficking.

Respondents: Individual participants in TVAP projects.

Annual Burden Estimates
Instrument | Number of respondents | Number of responses per respondent | Average burden hours per response | Total burden hours
Request for Information | 1250 | 1 | .25 | 312.5

Estimated Total Annual Burden Hours: 312.5.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-12591 Filed 5-22-15; 8:45 am]

BILLING CODE 4184-01-P